OFFICE OF THE UNITED STATES TRADE REPRESENTATIVE

Determination Regarding Waiver of Discriminatory Purchasing Requirements With Respect to Goods and Services of Ukraine

AGENCY: Office of the United States Trade Representative.

ACTION: Determination regarding waiver of discriminatory purchasing requirements under the Trade Agreements Act of 1979.

DATES: Effective May 18, 2016.

FOR FURTHER INFORMATION CONTACT: Scott Pietan, Director of International Procurement Policy, Office of the United States Trade Representative, (202) 395-9646.

SUPPLEMENTARY INFORMATION: On November 11, 2015, the WTO Committee on Government Procurement approved the accession of Ukraine to the World Trade Organization (“WTO”) Agreement on Government Procurement (“GPA”). Ukraine submitted its instrument of accession to the Secretary-General of the WTO on April 18, 2016. The GPA will enter into force for Ukraine on May 18, 2016. The United States, which is also a party to the GPA, has agreed to waive discriminatory purchasing requirements for eligible products and suppliers of Ukraine beginning on May 18, 2016. Section 1-201 of Executive Order 12260 of December 31, 1980 delegated the functions of the President under sections 301 and 302 of the Trade Agreements Act of 1979 (“the Trade Agreements Act”) (19 U.S.C. 2511, 2512) to the United States Trade Representative.

Determination: In conformity with sections 301 and 302 of the Trade Agreements Act, and in order to carry out U.S. obligations under the GPA, I hereby determine that:

1. Ukraine has become a party to the GPA and will provide appropriate reciprocal competitive government procurement opportunities to United States products and services and suppliers of such products and services. In accordance with section 301(b)(1) of the Trade Agreements Act, Ukraine is so designated for purposes of section 301(a) of the Trade Agreements Act.

2. Accordingly, beginning on May 18, 2016, with respect to eligible products (namely, those goods and services covered under the GPA for procurement by the United States) of Ukraine and suppliers of such products, the application of any law, regulation, procedure, or practice regarding government procurement that would, if applied to such products and suppliers, result in treatment less favorable than that accorded—

(A) to United States products and suppliers of such products, or

(B) to eligible products of another foreign country or instrumentality which is a party to the GPA and suppliers of such products, shall be waived. This waiver shall be applied by all entities listed in United States Annexes 1 and 3 of GPA Appendix 1.

3. The Trade Representative may modify or withdraw the designation in paragraph 1 and the waiver in paragraph 2.

Michael B.G. Froman,
United States Trade Representative.

[FR Doc. 2016-11669 Filed 5-17-16; 8:45 am]

BILLING CODE 3290-F6-P